SMALL BUSINESS ADMINISTRATION

13 CFR Parts 121, 125, 127, and 134

The Women-Owned Small Business Federal Contract Assistance Procedures

AGENCY: Small Business Administration (SBA).

ACTION: Proposed rule; correction.

SUMMARY: The Small Business Administration is correcting a proposed rule that appeared in the Federal Register on October 1, 2008. The proposed rule is seeking comments on a data issue involving the Women-Owned Small Business (WOSB) Federal Contract Assistance Procedures. This notice will make corrections to the RIN, the Subject Heading, the ADDRESSES and the FOR FURTHER INFORMATION CONTACT section of the rule.

DATES: Effective October 16, 2008.

FOR FURTHER INFORMATION CONTACT: Dean Koppel, Assistant Director, Policy, Planning and Research, Office of Government Contracting, (202) 205-6460.

SUPPLEMENTARY INFORMATION: In FR Doc. E8-23139 appearing on page 57014 in the Federal Register of Wednesday, October 1, 2008 (73 FR 57014), the following corrections are made:

1. On page 57014, in the Headings section a RIN needs to be added to read as follows:

RIN 3245-AF80

2. On Page 57014, in the Headings section revise the Subject Heading to read as follows:

The Women-Owned Small Business Federal Contract Assistance Procedures—Eligible Industries

3. On Page 57014, revise the ADDRESSES section to read as follows:

ADDRESSES: You may submit comments by any of the following methods:

• Federal eRulemaking Portal: http://www.regulations.gov. Follow the instructions for submitting comments.

• Mail, Hand Delivery/Courier: Dean Koppel, Assistant Director, Policy, Planning and Research, Office of Government Contracting, Small Business Administration, 409 Third Street, SW., Washington, DC 20416.

All comments will be posted on http://www.regulations.gov. If you wish to submit confidential business information (CBI) as defined in the User Notice at http://www.regulations.gov, please submit the comments to Dean Koppel and highlight the information that you consider to be CBI and explain why you believe this information should be held confidential. SBA will make a final determination as to whether the comments will be published.

4. On Page 57015, revise the FOR FURTHER INFORMATION CONTACT section to read as follows:

FOR FURTHER INFORMATION CONTACT: Dean Koppel, Assistant Director, Policy, Planning and Research, Office of Government Contracting, (202) 205-6460.

Calvin Jenkins,
Deputy Associate Administrator for Government Contracting and Business Development, Associate Administrator/Disaster Assistance.

[FR Doc. E8-24604 Filed 10-15-08; 8:45 am]

BILLING CODE 8025-01-P